DEPARTMENT OF THE INTERIOR

Privacy Act of 1974; Amendments to Existing Systems of Records

AGENCY: Office of Surface Mining Reclamation and Enforcement.

ACTION: Proposed amendment of existing Privacy Act systems of records.

SUMMARY: In accordance with the Privacy Act of 1974 (5 U.S.C. 552a), the Office of Surface Mining Reclamation and Enforcement, Department of the Interior, is issuing public notice of its intent to amend 2 existing Privacy Act system of records notices to add a new routine use to authorize the disclosure of records to individuals involved in responding to a breach of Federal data.

DATES: Comments must be received by September 15, 2008.

ADDRESSES: Any persons interested in commenting on these proposed amendments may do so by submitting comments in writing to the Office of Chief Information Officer, Willie Chism, Office of Surface Mining and Reclamation, U.S. Department of the Interior, 1951 Constitution Avenue, NW., Washington, DC 20240, or by e-mail to wchism@osmre.gov.

FOR FURTHER INFORMATION CONTACT: Office of the Chief Information Officer, Office of Surface Mining, 1951 Constitution Avenue, NW., Washington, DC 20240.

SUPPLEMENTARY INFORMATION: On May 22, 2007, in a memorandum for the heads of Executive Departments and Agencies entitled “Safeguarding Against and Responding to the Breach of Personally Identifiable Information,” the Office of Management and Budget directed agencies to develop and publish a routine use for disclosure of information in connection with response and remedial efforts in the event of a data breach. This routine use will serve to protect the interest of the individuals whose information is at issue by allowing agencies to take appropriate steps to facilitate a timely and effective response to the breach, thereby improving its ability to prevent, minimize or remedy any harm resulting from a compromise of data maintained in its systems of records. Accordingly, the Director, Office of Surface Mining, is proposing to add a new routine use to authorize disclosure to appropriate agencies, entities, and persons, of information maintained in the following systems in the event of a data breach. These amendments will be effective as proposed at the end of the comment period unless comments are received which would require a contrary determination. The Department will publish a revised notice if changes are made based upon a review of comments received.

Dated: July 29, 2008.
Douglas Wink,
Acting Chief Information Officer, Office of Surface Mining and Reclamation.

System Names:

OSM-8, “Employment and Financial Interest Statements—States and Other Federal Agencies.” (Published April 9, 1999, 64 FR 17412-17413)

“Blaster Certification—Interior/OSMRE-12”. (Published April 9, 1999, 64 FR 17413)

New Routine Use:

Disclosures outside the Department of the Interior may be made:

To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

[FR Doc. E8-17793 Filed 8-1-08; 8:45 am]

BILLING CODE 4310-05-P